DEPARTMENT OF COMMERCE

Foreign-Trade Zones Board

[Order No. 1436]

Termination of Foreign-Trade Subzone 133A (Maytag Corporation) Galesburg, IL

Pursuant to the authority granted in the Foreign-Trade Zones Act of June 18, 1934, as amended (19 U.S.C. 81a-81u), and the Foreign-Trade Zones Board Regulations (15 CFR Part 400), the Foreign-Trade Zones Board has adopted the following order:

Whereas, on November 1, 1989 the Foreign-Trade Zones Board issued a grant of authority to the Quad-City Foreign-Trade Zone, Inc. (Quad-City) authorizing the establishment of Foreign-Trade Subzone 133A at the Maytag Corporation facility, Galesburg, Illinois (Board Order 448, 54 FR 47246, 11/13/89);

Whereas, Quad-City advised the Board on May 17, 2005 (FTZ Docket 33-2005), that zone procedures were no longer needed at the facility and requested voluntary termination of Subzone 133A;

Whereas, the request has been reviewed by the FTZ Staff and Customs officials, and approval has been recommended;

Now, therefore, the Foreign-Trade Zones Board terminates the subzone status of Subzone 133A, effective this date.

Signed at Washington, DC, this 10th day of February 2006.
David M. Spooner,
Assistant Secretary of Commerce for Import Administration, Alternate Chairman, Foreign-Trade Zones Board.
Attest:
Dennis Puccinelli,
Executive Secretary.

[FR Doc. E6-2670 Filed 2-23-06; 8:45 am]

BILLING CODE 3510-DS-P